DEPARTMENT OF HEALTH AND HUMAN SERVICES

Administration for Children and Families

Proposed Information Collection Activity; Coparenting and Healthy Relationship and Marriage Education for Dads (New Collection)

AGENCY: Office of Planning, Research, and Evaluation, Administration for Children and Families, HHS.

ACTION: Request for public comment.

SUMMARY: The Administration for Children and Families (ACF), Office of Planning, Research, and Evaluation (OPRE) proposes to collect information as part of the Coparenting and Healthy Relationship and Marriage Education for Dads (CHaRMED) study. The purpose of the CHaRMED study is to better understand the services that fatherhood programs provide in the areas of Healthy Marriage and Relationship Education (HMRE) and coparenting to learn what strategies hold promise for promoting active engagement in these services.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION:

Description: The proposed information collection will examine how fatherhood programs include HMRE and coparenting content, the types of activities programs use to promote fathers' healthy romantic relationships and coparenting relationships, barriers to addressing healthy romantic relationships and coparenting in fatherhood programs, the relevance and success of addressing healthy romantic relationships and coparenting with fathers alone versus with couples or both parents, fathers' and coparents' reactions to this programming, curriculum developers' perspectives on the curricula used, and what types of partnerships fatherhood programs have with other agencies to promote fathers' healthy romantic relationships and coparenting. This information will be collected through semi-structured interviews with fatherhood program staff, community partners, fathers who are no longer participating in the programs, and curriculum developers; and through focus groups with current program participants (fathers) and coparents. This information will inform future efforts to promote healthy romantic relationships and coparenting through fatherhood programming.

Respondents: Federal and non-federal fatherhood program staff (e.g., program directors and facilitators), community partners, fathers, coparents, and curriculum developers.

Annual Burden Estimates
Instrument | Total/annual number of respondents | Number of responses per respondent | Average burden hours per response | Annual burden hours
Screener for selecting fatherhood programs for visits | 28 | 1 | 6 | 168
Semi-structured interviews with program staff | 48 | 1 | 2 | 96
Semi-structured interviews with partner organization staff | 14 | 1 | 2 | 28
Semi-structured interviews with non-participating fathers | 20 | 1 | 1.5 | 30
Focus groups with participating fathers | 104 | 1 | 2 | 208
Focus groups with coparents | 48 | 1 | 2 | 96
Discussions with curriculum developers | 7 | 1 | 1 | 7
Demographic questionnaire—fathers | 124 | 1 | .25 | 31
Demographic questionnaire—coparents | 48 | 1 | .25 | 12

Estimated Total Annual Burden Hours: 676.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV, Part A, Section 403(a)(2) of the Social Security Act [42 U.S.C. 603(a)(2)].

Mary B. Jones,
ACF/OPRE Certifying Officer.

[FR Doc. 2019-20384 Filed 9-19-19; 8:45 am]

BILLING CODE 4184-73-P